DEPARTMENT OF LABOR

Employment and Training Administration

[TA-W-36,891]

JPS Converter and Industrial Corp., a Subsidiary of JPS Textile, Inc., Borden Plant, Now Known as Chiquola Fabrics, LLC, Kingsport, Tennessee; Amended Certification Regarding Eligibility To Apply for Worker Adjustment Assistance

In accordance with section 223 of the Trade Act of 1974 (19 USC 2273) the Department of Labor issued a Certification of Eligibility to Apply for Worker Adjustment Assistance on October 28, 1999, applicable to workers of JPS Converter and Industrial Corp., a Subsidiary of JPS Textile Group, Inc., Borden Plant, Kingsport, Tennessee. The notice was published in the Federal Register on December 2, 1999 (64 FR 67594).

At the request of the petitioners, the Department reviewed the certification for workers of the subject firm. The workers are engaged in the production of cotton and some cotton/polyester blend fabrics, primarily for book bindings.

The company reports that in August, 1999, Chiquola Fabrics, LLC purchased the Borden Plant, Kingsport, Tennessee of JPS Converter and Industrial Corp. and is now known as Chiquola Fabrics, LLC.

Information also shows that workers separated from employment at the subject firm, had their wages reported under a separate unemployment insurance (UI) tax account for Chiquola Fabrics, LLC.

Accordingly, the Department is amending the certification determination to properly reflect this matter.

The intent of the Department's certification is to include all workers of JPS Converter and Industrial Corp., a Subsidiary of JPS Textile Group, Inc., Borden Plant, now known as Chiquola Fabrics, LLC who were adversely affected by increased imports.

The amended notice applicable to TA-W-36,891 is hereby issued as follows:

All workers of JPS Converter and Industrial Corp., a Subsidiary of JPS Textile Group, Inc., Borden Plant, now known as Chiquola Fabrics, LLC, Kingsport, Tennessee who become totally or partially separated from employment on or after September 22, 1998, through October 28, 2001, are eligible to apply for adjustment assistance under Section 223 of the Trade Act of 1974.

Signed at Washington, DC this 26th day of November, 2001.
Edward A. Tomchick,
Director, Division of Trade Adjustment Assistance.

[FR Doc. 01-30069 Filed 12-4-01; 8:45 am]

BILLING CODE 4510-30-M